DEPARTMENT OF DEFENSE

GENERAL SERVICES ADMINISTRATION

NATIONAL AERONAUTICS AND SPACE ADMINISTRATION

48 CFR Chapter 1

[Docket No. FAR-2020-0051, Sequence No. 3]

Federal Acquisition Regulation; Federal Acquisition Circular 2020-07; Small Entity Compliance Guide

AGENCY: Department of Defense (DoD), General Services Administration (GSA), and National Aeronautics and Space Administration (NASA).

ACTION: Small Entity Compliance Guide.

SUMMARY: This document is issued under the joint authority of DOD, GSA, and NASA. This Small Entity Compliance Guide has been prepared in accordance with section 212 of the Small Business Regulatory Enforcement Fairness Act of 1996. It consists of a summary of the rules appearing in Federal Acquisition Circular (FAC) 2020-07, which amends the Federal Acquisition Regulation (FAR). An asterisk (*) next to a rule indicates that a regulatory flexibility analysis has been prepared. Interested parties may obtain further information regarding these rules by referring to FAC 2020-07, which precedes this document. These documents are also available via the internet at https://www.regulations.gov.

DATES: July 2, 2020.

FOR FURTHER INFORMATION CONTACT: For clarification of content, contact the analyst whose name appears in the table below. Please cite FAC 2020-07 and the FAR Case number. For information pertaining to status or publication schedules, contact the Regulatory Secretariat Division at 202-501-4755 or GSARegSec@gsa.gov.

Rule Listed in FAC 2020-07
Item | Subject | FAR case | Analyst
*I | Requirements for DD Form 254, Contract Security Classification Specification | 2015-002 | Glover.
*II | Increased Micro-Purchase and Simplified Acquisition Thresholds | 2018-004 | Jackson.
*III | Evaluation Factors for Multiple-Award Contracts | 2017-010 | Jackson.
*IV | Modifications to Cost or Pricing Data Requirements | 2018-005 | Delgado.
*V | Orders Issued Via Fax or Electronic Commerce | 2018-022 | Glover.
VI | Technical Amendments |  |

ADDRESSES: The FAC, including the SECG, is available via the internet at https://www.regulations.gov.

SUPPLEMENTARY INFORMATION: Summaries for each FAR rule follow. For the actual revisions and/or amendments made by these FAR rules, refer to the specific item numbers and subjects set forth in the documents following these item summaries. FAC 2020-07 amends the FAR as follows:

Item I—Requirements for DD Form 254, Contract Security Classification Specification (FAR Case 2015-002)

This final rule amends the FAR to provide procedures for use of the DD Form 254, Contract Security Classification Specification, and the use of the Procurement Integrated Enterprise Environment (PIEE) for electronic submission to streamline the submission process. It requires use of the DD Form 254 by DoD components, and by nondefense agencies that have industrial security services agreements with DoD, and requires the use of the National Industrial Security Program Contracts Classification System module of the PIEE, unless the nondefense agency has an existing DD Form 254 information system.

Item II—Increased Micro-Purchase and Simplified Acquisition Thresholds (FAR Case 2018-004)

This final rule increases the micro-purchase threshold (MPT) from $3,500 to $10,000, increases the simplified acquisition threshold (SAT) from $150,000 to $250,000, and increases the special emergency procurement authority in paragraph (2) from $300,000 to $500,000. The rule also clarifies certain procurement terms, as well as aligns some non-statutory thresholds with the MPT and SAT. It implements section 217(b) of the National Defense Authorization Act (NDAA) for Fiscal Year (FY) 2017 and sections 805, 806, and 1702(a) of the NDAA for FY 2018.

This final rule will likely have a positive significant economic impact on a substantial number of small entities.

Item III—Evaluation Factors for Multiple-Award Contracts (FAR Case 2017-010)

DoD, GSA, and NASA are issuing a final rule amending the FAR to implement section 825 of the National Defense Authorization Act for Fiscal Year 2017 (Pub. L. 114-328). The final rule modifies the requirement to consider price or cost as an evaluation factor for the award of certain multiple-award task order contracts issued by DoD, NASA, and the Coast Guard. Specifically, the rule provides that, at the Government's discretion, solicitations for multiple-award contracts for the same or similar services that state the Government intends to award a contract to each qualifying offeror do not require price or cost as an evaluation factor for contract award. This exception does not apply to solicitations for multiple-award contracts that provide for sole source orders pursuant to 8(a) of the Small Business Act (15 U.S.C. 637(a)). When price or cost is not evaluated during contract award, the contracting officer shall consider price or cost as a factor for the award of each order under the contract. Section 825 also amends 10 U.S.C. 2304c(b) to add exemptions for the use of competitive procedures when placing an order under a multiple-award contract.

Item IV—Modifications to Cost or Pricing Data Requirements (FAR Case 2018-005)

This final rule increases the threshold for requesting certified cost or pricing data from $750,000 to $2 million for contracts entered into after June 30, 2018. For earlier contracts, contractors may request a modification to use the new clause Alternates, with the new $2 million threshold for subcontracts awarded on or after July 1, 2018. The rule implements section 811 of the National Defense Authorization Act for Fiscal Year 2018, Public Law 115-91.

This final rule will not have a significant economic impact on a substantial number of small entities.

Item V—Orders Issued Via Fax or Electronic Commerce (FAR Case 2018-022)

This final rule amends a FAR clause to permit the issuance of task or delivery orders via facsimile or electronic commerce and clarify when an order is considered “issued” when using these methods. As a result, contracting officers will no longer need to include supplemental ordering language in the contract when anticipating the use of fax or electronic commerce to issue task or delivery orders. The authority to issue orders orally must still be separately authorized in the contract. A common understanding of when a task or delivery order is considered issued, in such situations, will be applied Governmentwide.

Item VI—Technical Amendments

Editorial changes are made at FAR 5.205, 9.109-4, 27.405-3, 52.209-13, and 52.212-5.

William F. Clark,
Director, Office of Government-wide Acquisition Policy, Office of Acquisition Policy, Office of Government-wide Policy.

[FR Doc. 2020-12758 Filed 7-1-20; 8:45 am]

BILLING CODE 6820-EP-P